GENERAL SERVICES ADMINISTRATION

41 CFR Part 301-50

[FTR Case 2003-303 Correction]

Federal Travel Regulation; eTravel Service (eTS); Correction

AGENCY: Office of Governmentwide Policy, General Services Administration (GSA).

ACTION: Proposed rule; Correction.

SUMMARY: This is to correct the Federal Travel Regulation's proposed rule published in the Federal Register at 68 FR 38662, June 30, 2003, by revising a Table of Content entry that was inadvertently revised.

FOR FURTHER INFORMATION CONTACT: Ms. Laurie Duarte at (202) 501-4755, General Services Administration, Regulatory Secretariat, Washington, DC 20405.

Correction

In the proposed rule document appearing in the issue of June 30, 2003, make the following correction:

1. On page 38662, third column, table of contents, fourth section entry, remove “301-73.1” and add in its place “301-50.4”.

Dated: July 1, 2003.
Laurie Duarte,
Supervisor, Regulatory Secretariat, General Services Administration.

[FR Doc. 03-17146 Filed 7-7-03; 8:45 am]

BILLING CODE 6820-14-P